DEPARTMENT OF THE INTERIOR

Bureau of Land Management

[AK-040-06-1610-DP-087L]

Notice of Availability of Bay Draft Resource Management Plan and Draft Environmental Impact Statement, Alaska

AGENCY: Bureau of Land Management, Interior.

ACTION: Notice of Availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Draft Resource Management Plan/Environmental Impact Statement (RMP/EIS) for the Bay planning area for lands adjacent to Bristol Bay and Goodnews Bay, Alaska and by this notice is announcing the opening of the comment period.

DATES: Public comments on the draft RMP/EIS will be accepted until 90 calendar days after the date the Environmental Protection Agency (EPA) publishes its Notice of Availability in the Federal Register. The BLM will announce future meetings or hearings and any other public involvement activities at least 15 days in advance through public notices, media news releases, and/or mailings.

ADDRESSES: You may submit comments by the following methods:

• E-mail: akbayrmp@blm.gov.

• Mail: Bureau of Land Management, Anchorage Field Office, ATTN: Bay RMP, 6881 Abbott Loop Road, Anchorage, AK 99507.

FOR FURTHER INFORMATION CONTACT: Patricia McClenahan, Project Lead (907) 267-1484, akbayrmp@blm.gov or Gary Reimer, Field Manager, (907) 267-1246, or in writing to the address listed above.

SUPPLEMENTARY INFORMATION: The Bay Draft Resource Management Plan/Environmental Impact Statement covers approximately 1,176,269 acres of unencumbered land and 1,327,553 acres of State- and Native-selected land in the Bristol Bay and Goodnews Bay regions in southwestern Alaska. The Southwest Management Framework Plan (MFP), completed in 1981, addresses only the use of the specific portion of these lands that lie within the Goodnews Block. A new RMP is necessary to plan for those lands not covered by the MFP, to address issues that have arisen since the MFP was written, and to meet current planning regulations.

BLM published a Notice of Intent to prepare an RMP/EIS in the Federal Register on December 6, 2004. A 90-day formal scoping period began with publication of the Notice by the EPA. Public meetings were held in eight communities, and the following primary management concerns were identified: (1) What land tenure adjustments would allow BLM to consolidate discontiguous blocks of land to benefit users and land managers; (2) Which lands would be made available for oil, gas and hardrock mineral development, and how should these lands be managed to sustain natural and cultural resources; (3) How will access be provided to BLM-administered lands for various purposes, including recreation, subsistence activities, and general enjoyment of public lands while protecting natural and cultural resources; and (4) Should eligible rivers be recommended for inclusion in the National Wild and Scenic Rivers System.

This draft RMP/EIS presents four alternatives to address the issues identified in scoping. These include a No Action Alternative and three action alternatives, including the Preferred Alternative. The No Action Alternative (A) would continue existing management of lands within the planning area. Alternative B emphasizes resource development. Under this alternative, constraints to protect renewable resource values or habitat, cultural and paleontological resources would be implemented on a project-by-project basis rather than across the planning area or by special designation. Alternative C proposes two Areas of Critical Environmental Concern and three Wild River segments. No Special Recreation Management Areas are identified and off-highway vehicle (OHV) use would be limited to existing roads and trails. The Preferred Alternative (D) represents a variety of actions that the BLM believes best resolves the issues and management concerns in consideration of all values and programs. The Preferred Alternative proposes one Area of Critical Environmental Concern. No Special Recreation Management Areas are identified and off-highway vehicle use would be limited to existing roads and trails.

As required by 43 CFR 1610.7-2, areas with potential for designation as Areas of Critical Environmental Concern (ACECs) and protective management have been considered during the planning process. Two potential areas are considered for designation in Alternative C: Carter Spit ACEC (62,863 acres) and Bristol Bay ACEC (989,202 acres). Three river segments—portions of the Alagnak, Goodnews mainstem, and Goodnews middle fork rivers—are also proposed as Wild Rivers under Alternative C. One potential area (Carter Spit ACEC) is considered for designation under Alternative D. The following tables provide the names, acreages of each area, and summary descriptions of resource use limitations for Alternatives C and D.

Table 1.—Proposed Areas of Critical Environmental Concern and Wild Rivers Under Alternative C
Name of area | Acreage | Resource use limitations
Carter Spit ACEC | 62,863 | Open to fluid mineral leasing with Stipulations and Required Operating Procedures, subject to conditions.
|  | Open to locatable mineral exploration and development with Required Operating Procedures, subject to conditions.
|  | Closed to sale of mineral materials (i.e. sand, gravel).
|  | Designated “Limited” OHV Use.
|  | Recreation managed as “Semi-primitive Motorized.”
|  | Visual resources managed at Level III.
|  | Avoidance Area for rights-of-way.
|  | Develop Habitat Management Plan.
Bristol Bay ACEC | 989,202 | Open to fluid mineral leasing with Stipulations and Required Operating Procedures, subject to conditions.
|  | Open to locatable mineral exploration and development with Required Operating Procedures, subject to conditions.
|  | Closed to sale of mineral materials (i.e. sand, gravel).
|  | Designated “Limited” OHV Use.
|  | Recreation managed as “Semi-primitive Motorized.”
|  | Visual resources managed at Level III.
|  | Avoidance Area for rights-of-way.
|  | Develop Habitat Management Plan.
Wild River segments: Alagnak, Goodnews River (Mainstem), Goodnews River (Middle Fork) | 15,125 | Visual resources managed at Level III. Retain existing 17(d)(1)withdrawals until Congress acts. Closed to sale of mineral materials (i.e. sand, gravel). Avoidance Area for rights-of-way.

Table 2.—Proposed Area of Critical Environmental Concern Under Alternative D
Name of area | Acreage | Resource use limitations
Carter Spit ACEC | 62,863 | Open to fluid mineral leasing with Stipulations and Required Operating Procedures, subject to conditions.
|  | Open to locatable mineral exploration and development with Required Operating Procedures, subject to conditions.
|  | Closed to sale of mineral materials (i.e. sand, gravel).
|  | Designated “Limited” OHV Use.
|  | Recreation managed as “Semi-primitive Motorized.”
|  | Visual resources managed at Level III.
|  | Avoidance Area for rights-of-way.
|  | Develop Habitat Management Plan.

Final acreage for areas designated as ACECs would also depend on the result of land conveyance to the State of Alaska and Native corporations.

Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Copies of the Bay Draft RMP/EIS (paper or compact disc) are available at the BLM Anchorage Field Office, 6881 Abbott Loop Road, Anchorage, AK 99507 and the BLM Alaska State Office, 222 W. 7th Avenue, Anchorage, AK 99513. The document is also available online and may be viewed at http://www.blm.gov/ak/ado.

Dated: July 6, 2006.
Julia Dougan,
Acting State Director.

[FR Doc. E6-15923 Filed 9-28-06; 8:45 am]

BILLING CODE 4310-JA-P